DEPARTMENT OF COMMERCE

International Trade Administration

University of California, Berkeley; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-022. Applicant: University of California, Berkeley, Berkeley, CA 94720-7200. Instrument: Low Temperature UHV Scanning Tunneling Microscope. Manufacturer: Omicron Vakuumphysik GmbH, Germany. Intended Use: See notice at 68 FR 26571, May 16, 2003.

Comments: None received. Decision: Approved. No instrument of equivalent scientific value to the foreign instrument, for such purposes as it is intended to be used, is being manufactured in the United States. Reasons: The foreign instrument provides: (1) Operating at an equilibrium temperature of 4K (including both tip and sample), (2) in-situ sample manipulation and tip transfer capabilities, (3) a receptacle for an electromagnet in the sample stage and (4) low drift rates of 1 angstrom/hour and rms vibration amplitudes <0.005 angstrom in a 300 Hz bandwith. The Center for Advanced Microstructures & Devices, Louisiana State University advised June 23, 2003 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-16491 Filed 6-27-03; 8:45 am]

BILLING CODE 3510-DS-P